DEPARTMENT OF THE INTERIOR

Fish and Wildlife Service

[FWS-R4-ES-2021-N014; FXES11130900000C2-201-FF09E32000]

Endangered and Threatened Wildlife and Plants; Initiation of 5-Year Status Reviews for 37 Southeastern Species

AGENCY: Fish and Wildlife Service, Interior.

ACTION: Notice of initiation of reviews; request for information.

SUMMARY: We, the U.S. Fish and Wildlife Service, are initiating 5-year status reviews for 37 species under the Endangered Species Act, as amended. A 5-year review is an assessment of the best scientific and commercial data available at the time of the review. We are requesting submission of any such information that has become available since the previous status review for each species.

DATES: To allow us adequate time to conduct these reviews, we must receive your comments or information on or before September 13, 2021. However, we will continue to accept new information about any listed species at any time.

ADDRESSES: For instructions on how and where to request or submit information, see Request for New Information under SUPPLEMENTARY INFORMATION.

FOR FURTHER INFORMATION CONTACT:

General Information: Aaron Valenta, (404) 679-4144, via email at aaron_valenta@fws.gov, and via U.S. mail at U.S. Fish and Wildlife Service, 1875 Century Boulevard, Atlanta, GA 30345.

Species-Specific Information and Submission of Comments: Please refer to Request for New Information under SUPPLEMENTARY INFORMATION.

Individuals who are hearing impaired or speech impaired may call the Federal Relay Service at 1-800-877-8339 for TTY assistance.

SUPPLEMENTARY INFORMATION: We, the U.S. Fish and Wildlife Service, are initiating 5-year status reviews under the Endangered Species Act of 1973, as amended (ESA; 16 U.S.C. 1531 et seq.), for 21 plant and 16 animal species. A 5-year status review is based on the best scientific and commercial data available at the time of the review; therefore, we are requesting submission of any such information that has become available since the last review for the species, particularly information on the status, threats, and recovery of the species that may have become available.

Why do we conduct 5-year reviews?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review; however, we may review the status of any species at any time based upon a petition or other information available to us. For additional information about 5-year reviews, refer to our fact sheet at http://www.fws.gov/endangered/what-we-do/recovery-overview.html.

Which species are under review?

This notice announces our active 5-year status reviews of the species in the following table.

Common name/ scientific name | Contact person, email, phone | Status (endangered or threatened) | States where the species is known to occur | Final listing rule (Federal Register citation and publication date) | Contact's mailing address
ANIMALS
Amphibians
Guajón (Eleutherodactylus cooki). | Jan Zegarra, caribbean_es@fws.gov, 787-510-5206. | Threatened | Puerto Rico | 62 FR 31757; 6/11/1997 | USFWS, Road 301, Km 5.1, P.O. Box 491, Boquerón, PR 00622.
Birds
Parrot, Puerto Rican (Amazona vittata). | Marisel Lopez, caribbean_es@fws.gov, 787-240-8895. | Endangered | Puerto Rico | 32 FR 4001; 3/11/1967 | USFWS, Road 191, Km 4.3, P.O. Box 1600, Rio Grande, PR 00745.
Fishes
Darter, Kentucky arrow (Etheostoma spilotum). | Michael Floyd, kentuckyes@fws.gov, 502-695-0468. | Threatened | Kentucky | 81 FR 68963; 10/5/2016 | USFWS, 330 W. Broadway, Ste. 265, Frankfort, KY 40601.
Shiner, Cape Fear (Notropis mekistocholas). | Emily Wells, Raleigh_ES@fws.gov, 919-856-4520. | Endangered | North Carolina | 52 FR 36034; 9/25/1987 | USFWS, P.O. Box 33726, Raleigh, NC 27636-3726.
Cavefish, Alabama (Speoplatyrhinus poulsoni). | Jennifer Grunewald, alabama@fws.gov, 251-441-5181. | Endangered | Alabama | 53 FR 37968; 9/28/1988 | USFWS, 1208B Main Street, Daphne, AL 36526.
Mammals
Deer, Key (Odocoileus virginianus clavium) | Lourdes Mena, key_deer_5-year_review@fws.gov, 904-731-3134. | Endangered | Florida | 32 FR 4001; 3/11/1967 | USFWS, 1339 20th St., Vero Beach, FL 32960.
Manatee, West Indian (Trichechus manatus). | Lourdes Mena, manatee@fws.gov, 904-731-3134. | Threatened | Alabama, Delaware, Florida, Georgia, Louisiana, Maryland, Mississippi, New Jersey, North Carolina, Puerto Rico, South Carolina, Texas, Virginia | 82 FR 16668; 4/5/2017 | USFWS, 7915 Baymeadows Way, Suite 200, Jacksonville, FL 32256.
Clams
Elktoe, Appalachian (Alasmidonta raveneliana). | Jason Mays, fw4esasheville@fws.gov, 828-258-3939. | Endangered | North Carolina, Tennessee | 59 FR 60324; 11/23/1994 | USFWS, 160 Zillicoa St., Asheville, NC 28801.
Pearlshell, Louisiana (Margaritifera hembeli). | Monica Sikes, lafayette@fws.gov, 337-291-3118. | Threatened | Arkansas, Louisiana | 58 FR 49935; 9/24/1993 | USFWS, 200 Dulles Drive, Lafayette, LA 70506.
Moccasinshell, Suwannee (Medionidus walkeri). | Lourdes Mena, panamacity@fws.gov, 904-731-3134. | Threatened | Florida, Georgia | 81 FR 69417; 10/6/2016 | USFWS, 1601 Balboa Ave., Panama City, FL 32405.
Wartyback, white (pearlymussel) (Plethobasus cicatricosus). | Evan Collins, alabama@fws.gov, 251-441-5181. | Endangered | Alabama, Tennessee | 41 FR 24062; 6/14/1976 | USFWS, 1208B Main Street, Daphne, AL 36526.
Crustaceans
Shrimp, Squirrel Chimney Cave (Palaemonetes cummingi). | Lourdes Mena, northflorida@fws.gov, 904-731-3134. | Threatened | Florida | 55 FR 25588; 6/21/1990 | USFWS, 7915 Baymeadows Way, Suite 200, Jacksonville, FL 32256.
Shrimp, Alabama cave (Palaemonias alabamae). | Jennifer Grunewald, alabama@fws.gov, 251-441-5181. | Endangered | Alabama | 53 FR 34696; 9/7/1988 | USFWS, 1208B Main Street, Daphne, AL 36526.
Shrimp, Kentucky cave (Palaemonias ganteri). | Michael Floyd, kentuckyes@fws.gov, 502-695-0468. | Endangered | Kentucky | 48 FR 46337; 10/12/1983 | USFWS, 330 W Broadway, Ste. 265, Frankfort, KY 40601.
Insects
Beetle, Miami tiger (Cicindelidia floridana). | Lourdes Mena, Miamitigerbeetle_5-yearreview@fws.gov, 904-731-3134. | Endangered | Florida | 81 FR 68985; 10/5/2016 | USFWS, 1339 20th St., Vero Beach, FL 32960.
Snails
Snail, painted snake coiled forest (Anguispira picta). | Geoff Call, cookeville@fws.gov, 931-528-6481. | Threatened | Tennessee | 43 FR 28932; 7/3/1978 | USFWS, 446 Neal Street, Cookeville, TN 38501.
PLANTS
Flowering Plants
Argythamnia blodgettii (Blodgett's silverbush) | Lourdes Mena, pinerocklandplants_5-yearreview@fws.gov, 904-731-3134. | Threatened | Florida | 81 FR 66842; 9/29/2016 | USFWS, 1339 20th St., Vero Beach, FL 32960.
Auerodendron pauciflorum (no common name) | José G. Martínez, caribbean_es@fws.gov, 787-851-7297. | Endangered | Puerto Rico | 59 FR 9935; 3/2/1994 | USFWS, Road 301, Km 5.1, P.O. Box 491, Boquerón, PR 00622.
Cardamine micranthera (small-anthered bittercress) | Karla Quast, fw4esasheville@fws.gov, 828-258-3939. | Endangered | North Carolina, Virginia | 54 FR 38947; 9/21/1989 | USFWS, 160 Zillicoa St., Asheville, NC 28801.
Chamaecrista lineata keyensis (Big Pine partridge pea) | Lourdes Mena, pinerocklandplants_5-yearreview@fws.gov, 904-731-3134. | Endangered | Florida | 81 FR 66842; 9/29/2016 | USFWS, 1339 20th St., Vero Beach, FL 32960.
Chamaesyce deltoidea serpyllum (wedge spurge) | Lourdes Mena, pinerocklandplants_5-yearreview@fws.gov, 904-731-3134. | Endangered | Florida | 81 FR 66842; 9/29/2016 | USFWS, 1339 20th St., Vero Beach, FL 32960.
Clematis socialis (Alabama leather flower) | Scott Wiggers, mississippi_field_office@fws.gov, 228-475-0765. | Endangered | Alabama, Georgia | 51 FR 34420; 9/26/1986 | USFWS, 6578 Dogwood View Pkwy., Jackson, MS 39213.
Conradina glabra (Apalachicola rosemary) | Lourdes Mena, panamacity@fws.gov, 904-731-3134. | Endangered | Florida | 58 FR 37432; 7/12/1993 | USFWS, 1601 Balboa Ave., Panama City, FL 32405.
Cordia bellonis (no common name) | Omar Monsegur, caribbean_es@fws.gov, 787-510-5206. | Endangered | Puerto Rico | 62 FR 1644; 1/10/1997 | USFWS, Road 301, Km 5.1, P.O. Box 491, Boquerón, PR 00622.
Crescentia portoricensis (higüero de sierra) | Omar Monsegur, caribbean_es@fws.gov, 787-510-5206. | Endangered | Puerto Rico | 52 FR 46085; 12/4/1987 | USFWS, Road 301, Km 5.1, P.O. Box 491, Boquerón, PR 00622.
Geocarpon minimum (no common name) | Jason Phillips, arkansas-es_recovery@fws.gov, 870-503-1101. | Threatened | Arkansas, Louisiana, Missouri, Texas | 52 FR 22930; 6/16/1987 | USFWS, 110 South Amity Road, Suite 300, Conway, Arkansas 72032.
Harperocallis flava (Harper's beauty) | Lourdes Mena, panamacity@fws.gov, 904-731-3134. | Endangered | Florida | 44 FR 56862; 10/2/1979 | USFWS, 1601 Balboa Ave., Panama City, FL 32405.
Houstonia (=Hedyotis) purpurea var. montana (Roan Mountain bluet) | Karla Quast, fw4esasheville@fws.gov, 828-258-3939. | Endangered | North Carolina, Tennessee, Virginia | 55 FR 12793; 4/5/1990 | USFWS, 160 Zillicoa St., Asheville, NC 28801.
Linum arenicola (sand flax) | Lourdes Mena, pinerocklandplants_5-yearreview@fws.gov, 904-731-3134. | Endangered | Florida | 81 FR 66842; 9/29/2016 | USFWS, 1339 20th St., Vero Beach, FL 32960.
Lupinus aridorum (scrub lupine) | Lourdes Mena, northflorida@fws.gov, 904-731-3134. | Endangered | Florida | 52 FR 11172; 4/7/1987 | USFWS, 7915 Baymeadows Way, Suite 200, Jacksonville, FL 32256.
Myrcia paganii (no common name) | José G. Martínez, caribbean_es@fws.gov, 787-510-5206. | Endangered | Puerto Rico | 59 FR 8138; 2/18/1994 | USFWS, Road 301, Km 5.1, P.O. Box 491, Boquerón, PR 00622.
Trichilia triacantha (Bariaco) | Omar Monsegur, caribbean_es@fws.gov, 787-510-5206. | Endangered | Puerto Rico | 53 FR 3565; 2/5/1988 | USFWS, Road 301, Km 5.1, P.O. Box 491, Boquerón, PR 00622.
Warea amplexifolia (wide-leaf warea) | Lourdes Mena, northflorida@fws.gov, 904-731-3134. | Endangered | Florida | 52 FR 15501; 4/29/1987 | USFWS, 7915 Baymeadows Way, Suite 200, Jacksonville, FL 32256.
Non-Flowering Plants
Elaphoglossum serpens (no common name) | Marielle Peschiera, caribbean_es@fws.gov, 787-510-5206. | Endangered | Puerto Rico | 58 FR 32308; 6/9/1993 | USFWS, Road 301, Km 5.1, P.O. Box 491, Boquerón, PR 00622.
Polystichum calderonense (no common name) | Marielle Peschiera, caribbean_es@fws.gov, 787-510-5206. | Endangered | Puerto Rico | 58 FR 32308; 6/9/1993 | USFWS, Road 301, Km 5.1, P.O. Box 491, Boquerón, PR 00622.
Tectaria estremerana (no common name) | Marielle Peschiera, caribbean_es@fws.gov, 787-510-5206. | Endangered | Puerto Rico | 58 FR 32308; 6/9/1993 | USFWS, Road 301, Km 5.1, P.O. Box 491, Boquerón, PR 00622.
Trichomanes punctatum ssp. floridanum (Florida bristle fern) | Lourdes Mena, Floridabristlefern_5-yearreview@fws.gov, 904-731-3134. | Endangered | Florida | 80 FR 60439; 10/6/2015 | USFWS, 1339 20th St., Vero Beach, FL 32960.

What information do we consider in our 5-year reviews?

A 5-year review considers all new information available at the time of the review. In conducting the review, we consider the best scientific and commercial data that have become available since the most recent status review. Specifically, we are seeking new information regarding:

(1) Species biology, including but not limited to life history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in section 4(a)(1) of the ESA);

(5) Conservation measures for the species that have been implemented or are planned; and

(6) Other new information, data, or corrections, including but not limited to taxonomic or nomenclatural changes, identification of erroneous information contained in the List, and improved analytical methods.

Any new information received will be considered during the 5-year review and may be useful in evaluating ongoing recovery programs for the species.

Request for New Information

To ensure that 5-year reviews are based on the best available scientific and commercial information, we request new information from all sources. Please use the contact information listed in the table above that is associated with the species for which you are submitting information. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. Individuals who are hearing impaired or speech impaired may call the Federal Relay Service at 1-800-877-8339 for TTY assistance.

Public Availability of Comments

Before including your address, phone number, email address, or other personal identifying information in your submission, you should be aware that your entire submission—including your personal identifying information—may be made publicly available at any time. Although you can request that personal information be withheld from public review, we cannot guarantee that we will be able to do so.

Authority

This document is published under the authority of the Endangered Species Act of 1973, as amended (16 U.S.C. 1531 et seq.).

Leopoldo Miranda-Castro,
Regional Director, South Atlantic-Gulf and Mississippi Basin Regions.

[FR Doc. 2021-14952 Filed 7-13-21; 8:45 am]

BILLING CODE 4333-15-P